DEPARTMENT OF THE TREASURY

Submission for OMB Review; Comment Request

December 14, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 26, 2005 to be assured of consideration.

Internal Revenue Service (IRS)

OMB Number: 1545-1901.

Revenue Procedure Number: Revenue Procedure 2004-59.

Type of Review: Extension.

Title: Offer to Resolve Issues Arising from Certain Tax, Withholding, and Reporting Obligations of the U.S. Withholding Agents with Respect to Payment to Foreign Persons.

Description: This revenue procedure describes the section 1441 Voluntary Compliance Program (“VCP”), which is available to certain withholding agents with respect to the payment, withholding, and reporting certain tax due on payments made to foreign persons.

Respondents: Business or other for-profit.

Estimated Number of Respondents: 500.

Estimated Burden Hours Respondent: 400 hours.

Frequency of response: On occasion.

Estimated Total Reporting Burden: 200,000 hours.

Clearance Officer: R. Joseph Durbala (202) 622-3634, Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-28208 Filed 12-23-04; 8:45 am]

BILLING CODE 4830-01-P